DEPARTMENT OF VETERANS AFFAIRS

Advisory Committee on Prosthetic and Special Disabilities; Notice of Meeting Cancellation

Agency: Department of Veterans Affairs.

The Department of Veterans Affairs gives notice under the Federal Advisory Committee Act, 5 U.S.C. App. 2, that the meeting of the Advisory Committee on Disability Compensation, previously scheduled to be held at the Department of Veterans Affairs, 810 Vermont Avenue NW., Washington, DC 20420, on May 24-25, 2017, has been cancelled.

For more information, please contact Judy Schafer, Ph.D., Designated Federal Officer at (202) 461-7315 or via email at Judy.Schafer@va.gov.

Dated: May 26, 2017.
LaTonya L. Small,
Federal Advisory Committee Management Officer.

[FR Doc. 2017-11404 Filed 6-1-17; 8:45 am]

BILLING CODE P